DEPARTMENT OF HEALTH AND HUMAN SERVICES

National Institutes of Health

National Cancer Institute; Amended Notice of Meeting

Notice is hereby given of a change in the meeting of the National Cancer Institute Clinical Trials and Translational Research Advisory Committee, July 8, 2015, 09:00 a.m. to July 8, 2015, 12:00 p.m., National Institutes of Health, Building 31, 31 Center Drive, Bethesda, MD 20892 which was published in the Federal Register on April 15, 2015, 80FR20239.

This meeting notice is amended to change the ending time of the meeting from 12:00 p.m. to 2:00 p.m. Information is also available on the Institute's/Center's home page: http://deainfo.nci.nih.gov/advisory/ctac/ctac.htm where an agenda and any additional information for the meeting will be posted when available. The meeting is open to the public.

Dated: June 29, 2015.
Melanie J. Gray,
Program Analyst, Office of Federal Advisory Committee Policy.

[FR Doc. 2015-16380 Filed 7-1-15; 8:45 am]

BILLING CODE 4140-01-P